DEPARTMENT OF COMMERCE

Foreign-Trade Zones Board

[Docket 53-2008]

Foreign-Trade Zone 242 Boundary County, Idaho, Application for Subzone, Hoku Materials, Inc. (Polysilicon Manufacturing), Pocatello, Idaho

An application has been submitted to the Foreign-Trade Zones (FTZ) Board (the Board) by Boundary County, Idaho, grantee of FTZ 242, requesting special-purpose subzone status with manufacturing authority at the polysilicon manufacturing facility of Hoku Materials, Inc., located in Pocatello, Idaho. The application was submitted pursuant to the Foreign-Trade Zones Act, as amended (19 U.S.C. 81a-81u), and the regulations of the Board (15 CFR part 400). It was formally filed on October 3, 2008.

The Hoku facility (approximately 200 employees, 67 acres, 200,000 sq. ft.), currently under construction, is located at One Hoku Way, Pocatello, Idaho. Hoku is proposing to manufacture under zone procedures polysilicon (3,500 metric tons with possible expansion up to 8,000 metric tons) for the solar module market. The applicant is requesting to use two foreign-origin inputs (some 11% of finished product value): silicon (HTSUS 2804.69 duty rate 5.5%) and trichlorosilane (HTSUS 2853.00 duty rate 2.8%) in the manufacturing process.

FTZ procedures would exempt Hoku from customs duty payments on foreign materials used in export production (some 95% of plant shipments). On its domestic shipments, Hoku could defer duty until the product is entered for consumption, and choose the duty-free rate that applies to the finished polysilicon for the foreign inputs used in production. The company may also realize certain logistical/procedural savings related to weekly entry and direct delivery procedures, as well as savings on materials that become scrap/waste during manufacturing. The application indicates that FTZ procedures would help improve the plant's international competitiveness.

In accordance with the Board's regulations, Diane Finver of the FTZ staff is designated examiner to investigate the application and report to the Board.

Public comment is invited from interested parties. Submissions (original and 3 copies) shall be addressed to the Board's Executive Secretary at the address below. The closing period for their receipt is December 8, 2008. Rebuttal comments in response to material submitted during the foregoing period may be submitted during the subsequent 15-day period (to December 23, 2008).

A copy of the application will be available for public inspection at each of the following locations: U.S. Department of Commerce Export Assistance Center, 700 W. State Street, 2nd floor, Boise, Idaho 83720; and, Office of the Executive Secretary, Foreign-Trade Zones Board, Room 2111, U.S. Department of Commerce, 1401 Constitution Avenue, NW, Washington, D.C. 20230-0002.

For further information, contact Diane Finver at Diane_Finver@ita.doc.gov or (202) 482-1367.

Dated: October 3, 2008.
Andrew McGilvray,
Executive Secretary.

[FR Doc. E8-24024 Filed 10-8-04; 8:45 am]

BILLING CODE 3510-DS-S